DEPARTMENT OF ENERGY

Federal Energy Regulatory Commission

Sunshine Act Meeting

December 6, 2000.

The following notice of meeting is published pursuant to section 3(a) of the Government in the Sunshine Act (Pub. L. No. 94-409), 5 U.S.C. 552B:

AGENCY HOLDING MEETING: Federal Energy Regulatory Commission.

DATE AND TIME: December 13, 2000, 10 a.m.

PLACE: Room 2C, 888 First Street, NE., Washington, DC 20426.

STATUS: Open.

MATTERS TO BE CONSIDERED: Agenda.

Note—Items listed on the agenda may be deleted without further notice.

CONTACT PERSON FOR MORE INFORMATION: David P. Boergers, Secretary, Telephone (202) 208-0400, for a recording listing items stricken from or added to the meeting, call (202) 208-1627.

This is a list of matters to be considered by the Commission. It does not include a listing of all papers relevant to the items on the agenda; however, all public documents may be examined in the Reference and Information Center.

755th—Meeting December 13, 2000, Regular Meeting, (10 a.m.)

Consent Agenda—Markets, Tariffs and Rates—Electric

CAE-1.

DOCKET# ER01-147, 000, SOUTHERN ENERGY DELTA, L.L.C. AND SOUTHERN ENERGY POTRERO, L.L.C.

CAE-2.

DOCKET# ER01-168, 000, TENASKA FRONTIER PARTNERS, LTD.

CAE-3.

DOCKET# ER01-171, 000, CONSUMERS ENERGY COMPANY AND CMS MARKETING, SERVICES AND TRADING COMPANY

CAE-4.

OMITTED

CAE-5.

DOCKET# ER00-2814, 000, COMMONWEALTH EDISON COMPANY

OTHER#S ER00-2814,001, COMMONWEALTH EDISON COMPANY

ER00-2814, 002, COMMONWEALTH EDISON COMPANY

CAE-6.

DOCKET# ER01-210, 000, PJM INTERCONNECTION, L.L.C.

CAE-7.

OMITTED

CAE-8.

OMITTED

CAE-9.

OMITTED

CAE-10.

DOCKET# ER00-2870, 000, EL PASO ELECTRIC GENERATING COMPANY

CAE-11.

OMITTED

CAE-12.

DOCKET# ER01-369, 000, ISO NEW ENGLAND INC.

CAE-13.

DOCKET# ER01-202, 000, POTOMAC POWER RESOURCES, INC.

CAE-14.

DOCKET# ER00-2064, 000, ILLINOIS POWER COMPANY

OTHER#S ER00-2064, 001, ILLINOIS POWER COMPANY

CAE-15.

DOCKET# ER00-3316, 000, AMERICAN TRANSMISSION COMPANY LLC

CAE-16.

DOCKET# ER01-123, 000, ILLINOIS POWER COMPANY

CAE-17.

OMITTED

CAE-18.

DOCKET# ER00-2062, 000, CENTRAL MAINE POWER COMPANY

OTHER#S ER00-2062, 001, CENTRAL MAINE POWER COMPANY

ER00-2062, 002, CENTRAL MAINE POWER COMPANY

ER00-2062, 003, CENTRAL MAINE POWER COMPANY

CAE-19.

DOCKET# ER00-3735, 000, PJM INTERCONNECTION, L.L.C.

CAE-20.

DOCKET# ER00-1, 002, TRANSENERGIE U.S., LTD.

OTHER#S ER00-1, 003, TRANSENERGIE U.S., LTD.

CAE-21.

DOCKET# EL00-62, 005, ISO NEW ENGLAND, INC.

OTHER#S EL00-62, 013, ISO NEW ENGLAND, INC.

CAE-22.

OMITTED

CAE-23.

DOCKET# RT01-77, 000, SOUTHERN COMPANIES SERVICES, INC.

CAE-24.

DOCKET# ER99-4113, 001, CALIFORNIA POWER EXCHANGE CORPORATION

CAE-25.

DOCKET# EC00-138, 000, SITHE ENERGIES, INC. AND THE SITHE STOCKHOLDERS, EXELON (FOSSIL) HOLDINGS, INC., PEPCO ENERGY COMPANY AND EXELON GENERATION COMPANY, L.L.C.

CAE-26.

DOCKET# ER99-3279, 001, PJM INTERCONNECTION, L.L.C.

CAE-27.

DOCKET# ER99-3144, 003, ALLIANCE COMPANIES, AMERICAN ELECTRIC POWER SERVICE CORPORATION ON BEHALF OF: APPALACHIAN POWER COMPANY, COLUMBUS SOUTHERN POWER COMPANY, INDIANA MICHIGAN POWER COMPANY, KENTUCKY POWER COMPANY, KINGSPORT POWER COMPANY, OHIO POWER COMPANY, WHEELING POWER COMPANY, CONSUMERS ENERGY COMPANY, THE DETROIT EDISON COMPANY, FIRST ENERGY CORPORATION ON BEHALF OF: THE CLEVELAND ELECTRIC ILLUMINATING COMPANY, OHIO EDISON COMPANY, PENNSYLVANIA POWER COMPANY, THE TOLEDO EDISON COMPANY AND VIRGINIA ELECTRIC AND POWER COMPANY

OTHER#S EC99-80, 003, ALLIANCE COMPANIES, AMERICAN ELECTRIC POWER SERVICE CORPORATION ON BEHALF OF: APPALACHIAN POWER COMPANY, COLUMBUS SOUTHERN POWER COMPANY, INDIANA MICHIGAN POWER COMPANY, KENTUCKY POWER COMPANY, KINGSPORT POWER COMPANY, OHIO POWER COMPANY, WHEELING POWER COMPANY, CONSUMERS ENERGY COMPANY, THE DETROIT EDISON COMPANY, FIRST ENERGY CORPORATION ON BEHALF OF: THE CLEVELAND ELECTRIC ILLUMINATING COMPANY, OHIO EDISON COMPANY, PENNSYLVANIA POWER COMPANY, THE TOLEDO EDISON COMPANY AND VIRGINIA ELECTRIC AND POWER COMPANY

EC99-80, 004, ALLIANCE COMPANIES, AMERICAN ELECTRIC POWER SERVICE CORPORATION ON BEHALF OF: APPALACHIAN POWER COMPANY, COLUMBUS SOUTHERN POWER COMPANY, INDIANA MICHIGAN POWER COMPANY, KENTUCKY POWER COMPANY, KINGSPORT POWER COMPANY, OHIO POWER COMPANY, WHEELING POWER COMPANY, CONSUMERS ENERGY COMPANY, THE DETROIT EDISON COMPANY, FIRST ENERGY CORPORATION ON BEHALF OF: THE CLEVELAND ELECTRIC ILLUMINATING COMPANY, OHIO EDISON COMPANY, PENNSYLVANIA POWER COMPANY, THE TOLEDO EDISON COMPANY AND VIRGINIA ELECTRIC AND POWER COMPANY

EC99-80, 005, ALLIANCE COMPANIES, AMERICAN ELECTRIC POWER SERVICE CORPORATION ON BEHALF OF: APPALACHIAN POWER COMPANY, COLUMBUS SOUTHERN POWER COMPANY, INDIANA MICHIGAN POWER COMPANY, KENTUCKY POWER COMPANY, KINGSPORT POWER COMPANY, OHIO POWER COMPANY, WHEELING POWER COMPANY, CONSUMERS ENERGY COMPANY, THE DETROIT EDISON COMPANY, FIRST ENERGY CORPORATION ON BEHALF OF: THE CLEVELAND ELECTRIC ILLUMINATING COMPANY, OHIO EDISON COMPANY, PENNSYLVANIA POWER COMPANY, THE TOLEDO EDISON COMPANY AND VIRGINIA ELECTRIC AND POWER COMPANY

ER99-3144, 004, ALLIANCE COMPANIES, AMERICAN ELECTRIC POWER SERVICE CORPORATION ON BEHALF OF: APPALACHIAN POWER COMPANY, COLUMBUS SOUTHERN POWER COMPANY, INDIANA MICHIGAN POWER COMPANY, KENTUCKY POWER COMPANY, KINGSPORT POWER COMPANY, OHIO POWER COMPANY, WHEELING POWER COMPANY, CONSUMERS ENERGY COMPANY, THE DETROIT EDISON COMPANY, FIRST ENERGY CORPORATION ON BEHALF OF: THE CLEVELAND ELECTRIC ILLUMINATING COMPANY, OHIO EDISON COMPANY, PENNSYLVANIA POWER COMPANY, THE TOLEDO EDISON COMPANY AND VIRGINIA ELECTRIC AND POWER COMPANY

ER99-3144, 005, ALLIANCE COMPANIES, AMERICAN ELECTRIC POWER SERVICE CORPORATION ON BEHALF OF: APPALACHIAN POWER COMPANY, COLUMBUS SOUTHERN POWER COMPANY, INDIANA MICHIGAN POWER COMPANY, KENTUCKY POWER COMPANY, KINGSPORT POWER COMPANY, OHIO POWER COMPANY, WHEELING POWER COMPANY, CONSUMERS ENERGY COMPANY, THE DETROIT EDISON COMPANY, FIRST ENERGY CORPORATION ON BEHALF OF: THE CLEVELAND ELECTRIC ILLUMINATING COMPANY, OHIO EDISON COMPANY, PENNSYLVANIA POWER COMPANY, THE TOLEDO EDISON COMPANY AND VIRGINIA ELECTRIC AND POWER COMPANY

EC00-103, 000, CONSUMERS ENERGY COMPANY

ER00-2869, 000, CONSUMERS ENERGY COMPANY

CAE-28.

DOCKET# EG01-11, 000, MADISON WINDPOWER, LLC

CAE-29.

DOCKET# EL01-6, 000, QUIXX LINDEN, L.P.

OTHER#S QF98-3, 001, QUIXX LINDEN, L.P.

CAE-30.

DOCKET# EL01-8, 000, LG&E-WESTMORELAND HOPEWELL

OTHER#S QF88-85, 004, LG&E-WESTMORELAND HOPEWELL

CAE-31.

DOCKET# EL01-5, 000, SOWEGA POWER LLC

CAE-32.

DOCKET# EL99-42, 000, MONTAUP ELECTRIC COMPANY V. BOSTON EDISON COMPANY

OTHER#S EL99-42, 002, MONTAUP ELECTRIC COMPANY V. BOSTON EDISON COMPANY

ER00-2649, 000, MONTAUP ELECTRIC COMPANY V. BOSTON EDISON COMPANY

ER00-3749, 000, MONTAUP ELECTRIC COMPANY V. BOSTON EDISON COMPANY

CAE-33.

OMITTED

CAE-34.

DOCKET# ER01-204, 000, PJM INTERCONNECTION, L.L.C.

CAE-35.

DOCKET# EC00-141, 000, POTOMAC ELECTRIC POWER COMPANY, SOUTHERN ENERGY CHALK POINT, LLC, SOUTHERN ENERGY MID-ATLANTIC, LLC, SOUTHERN ENERGY PEAKER, LLC, SOUTHERN ENERGY POTOMAC RIVER, LLC, ALLEGHENY ENERGY SUPPLY COMPANY, LLC, PPL MONTOUR, LLC AND POTOMAC POWER RESOURCES, INC.

OTHER#S EL00-115, 000, POTOMAC ELECTRIC POWER COMPANY, SOUTHERN ENERGY CHALK POINT, LLC, SOUTHERN ENERGY MID-ATLANTIC, LLC, SOUTHERN ENERGY PEAKER, LLC, SOUTHERN ENERGY POTOMAC RIVER, LLC, ALLEGHENY ENERGY SUPPLY COMPANY, LLC, PPL MONTOUR, LLC AND POTOMAC POWER RESOURCES, INC.

ER00-3727, 000, POTOMAC ELECTRIC POWER COMPANY, SOUTHERN ENERGY CHALK POINT, LLC, SOUTHERN ENERGY MID-ATLANTIC, LLC, SOUTHERN ENERGY PEAKER, LLC, SOUTHERN ENERGY POTOMAC RIVER, LLC, ALLEGHENY ENERGY SUPPLY COMPANY, LLC, PPL MONTOUR, LLC AND POTOMAC POWER RESOURCES, INC.

Consent Agenda—Markets, Tariffs and Rates—Gas

CAG-1.

DOCKET# RP96-312, 034, TENNESSEE GAS PIPELINE COMPANY

OTHER#S GT01-5, 000, TENNESSEE GAS PIPELINE COMPANY

CAG-2.

DOCKET# RP01-81, 000, TENNESSEE GAS PIPELINE COMPANY

CAG-3.

DOCKET# RP00-212, 003, NUI CORPORATION (CITY GAS COMPANY OF FLORIDA DIVISION) V. FLORIDA GAS TRANSMISSION COMPANY

CAG-4.

DOCKET# RP01-99, 000, SOUTHERN NATURAL GAS COMPANY

CAG-5.

OMITTED

CAG-6.

DOCKET# RP01-111, 000, CHANDELEUR PIPE LINE COMPANY

CAG-7.

DOCKET# RP01-103, 000, NORTHWEST ALASKAN PIPELINE COMPANY

CAG-8.

DOCKET# RP01-74, 000, DOMINION TRANSMISSION, INC.

OTHER#S RP97-406, 024, DOMINION TRANSMISSION, INC.

RP97-406, 025, DOMINION TRANSMISSION, INC.

CAG-9.

DOCKET# IS01-33, 000, ALPINE TRANSPORTATION COMPANY

CAG-10.

DOCKET# RP99-322, 000, NORTHERN BORDER PIPELINE COMPANY

OTHER#S RP96-45, 000, NORTHERN BORDER PIPELINE COMPANY

RP96-45, 009, NORTHERN BORDER PIPELINE COMPANY

RP99-322, 003, NORTHERN BORDER PIPELINE COMPANY

CAG-11.

DOCKET# RP99-176, 010, NATURAL GAS PIPELINE COMPANY OF AMERICA

OTHER#S RP99-176, 007, NATURAL GAS PIPELINE COMPANY OF AMERICA

RP99-176, 008, NATURAL GAS PIPELINE COMPANY OF AMERICA

CAG-12.

DOCKET# RP00-257, 000, OZARK GAS TRANSMISSION, L.L.C.

OTHER#S RP00-257, 001, OZARK GAS TRANSMISSION, L.L.C.

CP01-21, 000, OZARK GAS TRANSMISSION, L.L.C.

CAG-13.

OMITTED

CAG-14.

DOCKET# RP00-363, 001, NATURAL GAS PIPELINE COMPANY OF AMERICA

OTHER#S RP00-363, 002, NATURAL GAS PIPELINE COMPANY OF AMERICA

CAG-15.

DOCKET# RP00-553, 001, TRANSCONTINENTAL GAS PIPE LINE CORPORATION

CAG-16.

DOCKET# RP01-83, 000, SEAGULL MARKETING SERVICES, INC. V. COLUMBIA GULF TRANSMISSION COMPANY

CAG-17.

DOCKET# RP96-129, 008, TRUNKLINE GAS COMPANY

CAG-18.

DOCKET# RP97-369, 014, PUBLIC SERVICE COMPANY OF COLORADO AND CHEYENNE LIGHT, FUEL AND POWER COMPANY

OTHER#S GP97-3, 004, AMOCO PRODUCTION COMPANY, ANADARKO PETROLEUM CORPORATION, MOBIL OIL CORPORATION, OXY USA, INC. AND UNION PACIFIC RESOURCES COMPANY

GP97-4, 004, KANSAS SMALL PRODUCER GROUP

GP97-5, 004, MESA OPERATING COMPANY

CAG-19.

OMITTED

CAG-20.

DOCKET# RM00-6, 001 WELL CATEGORY DETERMINATIONS

CAG-21.

OMITTED

CAG-22.

DOCKET# RP98-52, 039, WILLIAMS GAS PIPLINES CENTRAL, INC.

CAG-23.

DOCKET# MG00-6, 002, DOMINION RESOURCES, INC., CONSOLIDATED NATURAL GAS COMPANY AND DOMINION TRANSMISSION INC.

OTHER#S EC99-81, 003, DOMINION RESOURCES, INC., CONSOLIDATED NATURAL GAS COMPANY AND DOMINION TRANSMISSION INC.

EC99-81, 004, DOMINION RESOURCES, INC., CONSOLIDATED NATURAL GAS COMPANY AND DOMINION TRANSMISSION INC.

MG00-6, 003, DOMINION RESOURCES, INC., CONSOLIDATED NATURAL GAS COMPANY AND DOMINION TRANSMISSION INC.

MG00-6, 004, DOMINION RESOURCES, INC., CONSOLIDATED NATURAL GAS COMPANY AND DOMINION TRANSMISSION INC.

MT00-17, 000, DOMINION RESOURCES, INC., CONSOLIDATED NATURAL GAS COMPANY AND DOMINION TRANSMISSION INC.

CAG-24.

DOCKET# RP98-206, 006, ATLANTA GAS LIGHT COMPANY

OTHER#S RP98-206, 005, ATLANTA GAS LIGHT COMPANY

CAG-25.

DOCKET# RM00-11 000, FIVE-YEAR REVIEW OF OIL PIPELINE PRICING INDEX

CAG-26.

DOCKET# CP95-168, 004, SEA ROBIN PIPELINE COMPANY

Consent Agenda—Miscellaneous

CAM-1.

DOCKET# RM99-10, 000, REVISIONS TO AND ELECTRONIC FILING OF THE FERC FORM NO. 6, AND RELATED UNIFORM SYSTEMS OF ACCOUNTS

Consent Agenda—Energy Projects—Hydro

CAH-1.

DOCKET# UL96-1, 003, BLACKSTONE MILL DEPOT STREET TRUST

CAH-2.

DOCKET# P-1980, 009, WISCONSIN ELECTRIC POWER COMPANY

CAH-3.

DOCKET# P-2074, 007, WISCONSIN ELECTRIC POWER COMPANY

CAH-4.

DOCKET# P-2073, 008, WISCONSIN ELECTRIC POWER COMPANY

CAH-5.

DOCKET# P-1759, 036, WISCONSIN ELECTRIC POWER COMPANY

OTHER#S P-1980, 009, WISCONSIN ELECTRIC POWER COMPANY

P-2072, 008, WISCONSIN ELECTRIC POWER COMPANY

P-2073, 008, WISCONSIN ELECTRIC POWER COMPANY

P-2074, 007, WISCONSIN ELECTRIC POWER COMPANY

P-2131, 020, WISCONSIN ELECTRIC POWER COMPANY

P-2471, 005, WISCONSIN ELECTRIC POWER COMPANY

P-11831, 000, WISCONSIN ELECTRIC POWER COMPANY

P-11830, 000, WISCONSIN ELECTRIC POWER COMPANY

CAH-6.

DOCKET# P-2131, 020, WISCONSIN ELECTRIC POWER COMPANY

CAH-7.

DOCKET# P-11830, 000, WISCONSIN ELECTRIC POWER COMPANY

CAH-8.

DOCKET# P-11831, 000, WISCONSIN ELECTRIC POWER COMPANY

CAH-9.

DOCKET# P-2471, 005, WISCONSIN ELECTRIC POWER COMPANY

CAH-10.

DOCKET# P-2072, 008, WISCONSIN ELECTRIC POWER COMPANY

Consent Agenda—Energy Projects—Certificates

CAC-1.

DOCKET# CP00-68, 000, QUESTAR PIPELINE COMPANY

CAC-2.

DOCKET# CP98-540, 003, TRANSCONTINENTAL GAS PIPE LINE CORPORATION

CAC-3.

DOCKET# CP00-416, 000, COLUMBIA GAS TRANSMISSION CORPORATION

OTHER#S CP00-417, 000, COLUMBIA NATURAL RESOURCES, INC.

CAC-4.

DOCKET# CP98-74, 003, ANR PIPELINE COMPANY V. TRANSCONTINENTAL GAS PIPE LINE CORPORATION

CAC-5.

DOCKET# CP00-424, 001, DISTRIGAS OF MASSACHUSETTS LLC

CAC-6.

DOCKET# CP99-600, 000, NATIONAL FUEL GAS DISTRIBUTION CORPORATION

CAC-7.

DOCKET# CP95-218, 002, TEXAS EASTERN TRANSMISSION CORPORATION

CAC-8.

DOCKET# RM99-5, 002, REGULATIONS UNDER THE OUTER CONTINENTAL SHELF LANDS ACT GOVERNING THE MOVEMENT OF NATURAL GAS ON FACILITIES ON THE OUTER CONTINENTAL SHELF

Energy Projects—Hydro Agenda

H-1.

RESERVED

Energy Projects—Certificates Agenda

C-1.

RESERVED

Markets, Tariffs and Rates—Electric Agenda

E-1.

OMITTED

E-2.

DOCKET# EL00-95, 000, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE

OTHER#S EL00-95, 002, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE

EL00-95, 003, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE

EL00-98, 000, INVESTIGATION OF PRACTICES OF THE CALIFORNIA INDEPENDENT SYSTEM OPERATOR AND THE CALIFORNIA POWER EXCHANGE EL00-98, 002, INVESTIGATION OF PRACTICES OF THE CALIFORNIA INDEPENDENT SYSTEM OPERATOR AND THE CALIFORNIA POWER EXCHANGE

EL00-98, 003, INVESTIGATION OF PRACTICES OF THE CALIFORNIA INDEPENDENT SYSTEM OPERATOR AND THE CALIFORNIA POWER EXCHANGE

EL00-107, 000 PUBLIC MEETING IN SAN DIEGO, CALIFORNIA EL00-97, 000 RELIANT ENERGY POWER GENERATION, INC., DYNEGY POWER MARKETING, INC. AND SOUTHERN ENERGY CALIFORNIA, L.L.C. V. CALIFORNIA INDEPENDENT SYSTEM OPERATOR CORPORATION

EL00-104, 000, CALIFORNIA ELECTRICTY OVERSIGHT BOARD V. ALL SELLERS OF ENERGY AND ANCILLARY SERVICES INTO THE ENERGY AND ANCILLARY SERVICES MARKETS OPERATED BY THE CALIFORNIA INDEPENDENT SYSTEM OPERATOR AND THE CALIFORNIA POWER EXCHANGE

EL01-1, 000, CALIFORNIA MUNICIPAL UTILITIES ASSOCIATION V. ALL JURISDICTIONAL SELLERS OF ENERGY AND ANCILLARY SERVICES INTO MARKETS OPERATED BY THE CALIFORNIA INDEPENDENT SYSTEM OPERATOR AND THE CALIFORNIA POWER EXCHANGE

EL01-2, 000, CALIFORNIANS FOR RENEWABLE ENERGY, INC. V. INDEPENDENT ENERGY PRODUCERS, INC., AND ALL SELLERS OF ENERGY AND ANCILLARY SERVICES INTO MARKETS OPERATED BY THE CALIFORNIA INDEPENDENT SYSTEM OPERATOR AND THE CALIFORNIA POWER EXCHANGE; ALL SCHEDULING COORDINATORS ACTING ON BEHALF OF THE ABOVE SELLERS; CALIFORNIA INDEPENDENT SYSTEM OPERATOR CORPORATION; AND CALIFORNIA POWER EXCHANGE CORPORATION

EL01-10, 000, PUGET SOUND ENERGY, INC. V. ALL JURISDICTIONAL SELLERS OF ENERGY AND/OR CAPACITY AT WHOLESALE INTO ELECTRIC ENERGY AND/OR CAPACITY MARKETS IN THE PACIFIC NORTHWEST, INCLUDING PARTIES TO THE WESTERN SYSTEMS POWER POOL AGREEMENT

Order on wholesale electric markets. this order may be considered at the December 13, 2000 meeting or, subject to further notice, at another date later this month.

Markets, Tariffs and Rates—Gas Agenda

G-1.

RESERVED

David P. Boergers
Secretary.

[FR Doc. 00-31533 Filed 12-7-00; 10:47 am]

BILLING CODE 6717-01-U